DEPARTMENT OF ENERGY

Federal Energy Regulatory Commission

Combined Notice of Filings #1

Take notice that the Commission received the following exempt wholesale generator filings:

Docket Numbers: EG26-6-000.

Applicants: Halifax County Solar LLC.

Description: Halifax County Solar LLC submits Notice of Self-Certification of Exempt Wholesale Generator Status.

Filed Date: 10/7/25.

Accession Number: 20251007-5031.

Comment Date: 5 p.m. ET 10/28/25.

Take notice that the Commission received the following electric rate filings:

Docket Numbers: ER10-1801-008; ER10-2370-007; ER10-1805-009; ER23-101-001; ER23-102-001; ER23-103-001; ER23-104-001.

Applicants: Sunrise Wind LLC, South Fork Wind, LLC, Revolution Wind, LLC, North East Offshore, LLC, Public Service Company of New Hampshire, NSTAR Electric Company, The Connecticut Light and Power Company.

Description: Amendment to 12/29/2022 Triennial Market Power Analysis for Northeast Region of The Connecticut Light and Power Company, et al.

Filed Date: 10/3/25.

Accession Number: 20251003-5089.

Comment Date: 5 p.m. ET 1/1/26.

Docket Numbers: ER25-3027-001.

Applicants: Midcontinent Independent System Operator, Inc., Duke Energy Indiana, LLC.

Description: Compliance filing: Duke Energy Indiana, LLC submits tariff filing per 35: 2025-10-07_Compliance to Duke Energy Indiana Request for Incentives to be effective 9/29/2025.

Filed Date: 10/7/25.

Accession Number: 20251007-5023.

Comment Date: 5 p.m. ET 10/28/25.

Docket Numbers: ER26-34-000.

Applicants: Hexagon Energy, LLC.

Description: Request for Limited Waiver and Shortened Comment Period of Hexagon Energy, LLC.

Filed Date: 10/2/25.

Accession Number: 20251002-5169.

Comment Date: 5 p.m. ET 10/9/25.

Docket Numbers: ER26-41-000.

Applicants: Big Cypress Energy Storage, LLC.

Description: § 205(d) Rate Filing: Big Cypress Energy Storage MBR Application to be effective 12/6/2025.

Filed Date: 10/6/25.

Accession Number: 20251006-5193.

Comment Date: 5 p.m. ET 10/27/25.

Docket Numbers: ER26-42-000.

Applicants: Butler Ridge Wind, LLC.

Description: § 205(d) Rate Filing: Butler Ridge Wind MBR Application to be effective 12/6/2025.

Filed Date: 10/6/25.

Accession Number: 20251006-5198.

Comment Date: 5 p.m. ET 10/27/25.

Docket Numbers: ER26-43-000.

Applicants: Delta Bobcat Energy Storage, LLC.

Description: § 205(d) Rate Filing: Delta Bobcat Energy Storage MBR Application to be effective 12/6/2025.

Filed Date: 10/6/25.

Accession Number: 20251006-5204.

Comment Date: 5 p.m. ET 10/27/25.

Docket Numbers: ER26-44-000.

Applicants: Greer Energy Storage, LLC.

Description: § 205(d) Rate Filing: Greer Energy Storage MBR Application to be effective 12/6/2025.

Filed Date: 10/6/25.

Accession Number: 20251006-5208.

Comment Date: 5 p.m. ET 10/27/25.

Docket Numbers: ER26-45-000.

Applicants: Heartland Divide Wind Energy, LLC.

Description: § 205(d) Rate Filing: Heartland Divide Wind Energy MBR Application to be effective 12/6/2025.

Filed Date: 10/6/25.

Accession Number: 20251006-5212.

Comment Date: 5 p.m. ET 10/27/25.

Docket Numbers: ER26-46-000.

Applicants: Pheasant Run Wind Energy, LLC.

Description: § 205(d) Rate Filing: Pheasant Run Wind Energy MBR Application to be effective 12/6/2025.

Filed Date: 10/6/25.

Accession Number: 20251006-5213.

Comment Date: 5 p.m. ET 10/27/25.

Docket Numbers: ER26-47-000.

Applicants: Tuscola Wind Energy II, LLC.

Description: § 205(d) Rate Filing: Tuscola Wind Energy II MBR Application to be effective 12/6/2025.

Filed Date: 10/6/25.

Accession Number: 20251006-5215.

Comment Date: 5 p.m. ET 10/27/25.

Docket Numbers: ER26-48-000.

Applicants: Wildwood Energy Storage, LLC.

Description: § 205(d) Rate Filing: Wildwood Energy Storage MBR Application to be effective 12/6/2025.

Filed Date: 10/6/25.

Accession Number: 20251006-5218.

Comment Date: 5 p.m. ET 10/27/25.

Docket Numbers: ER26-49-000.

Applicants: Alabama Power Company, Georgia Power Company, Mississippi Power Company.

Description: Tariff Amendment: Alabama Power Company submits tariff filing per 35.15: PEHA bn (Pepper Hammock II Solar) LGIA Termination Filing to be effective 10/6/2025.

Filed Date: 10/6/25.

Accession Number: 20251006-5224.

Comment Date: 5 p.m. ET 10/27/25.

Docket Numbers: ER26-50-000.

Applicants: American Transmission Systems, Incorporated.

Description: § 205(d) Rate Filing: ATSI submits a Construction Agmt—SA No. 7216 to be effective 12/7/2025.

Filed Date: 10/7/25.

Accession Number: 20251007-5025.

Comment Date: 5 p.m. ET 10/28/25.

Docket Numbers: ER26-51-000.

Applicants: Mid-Atlantic Interstate Transmission, LLC.

Description: § 205(d) Rate Filing: MAIT submits a Construction Agmt—SA No. 7486 to be effective 12/7/2025.

Filed Date: 10/7/25.

Accession Number: 20251007-5027.

Comment Date: 5 p.m. ET 10/28/25.

Docket Numbers: ER26-52-000.

Applicants: Midcontinent Independent System Operator, Inc.

Description: § 205(d) Rate Filing: 2025-10-07_SA 4564 ATC-WPL GIA (S1033) to be effective 9/29/2025.

Filed Date: 10/7/25.

Accession Number: 20251007-5032.

Comment Date: 5 p.m. ET 10/28/25.

Docket Numbers: ER26-53-000.

Applicants: Midcontinent Independent System Operator, Inc.

Description: § 205(d) Rate Filing: 2025-10-07_SA 3789 Termination of ATXI-Double Black Diamond Solar E&P (J1464) to be effective 10/8/2025.

Filed Date: 10/7/25.

Accession Number: 20251007-5035.

Comment Date: 5 p.m. ET 10/28/25.

Docket Numbers: ER26-54-000.

Applicants: Midcontinent Independent System Operator, Inc., American Transmission Company LLC.

Description: § 205(d) Rate Filing: American Transmission Company LLC submits tariff filing per 35.13(a)(2)(iii: 2025-10-07_SA 4568 ATC-WPL PCA (Project Quaker) to be effective 12/7/2025.

Filed Date: 10/7/25.

Accession Number: 20251007-5036.

Comment Date: 5 p.m. ET 10/28/25.

Docket Numbers: ER26-55-000.

Applicants: Midcontinent Independent System Operator, Inc.

Description: § 205(d) Rate Filing: 2025-10-07_SA 4566 ATC-WPL GIA (S1023) to be effective 9/30/2025.

Filed Date: 10/7/25.

Accession Number: 20251007-5037.

Comment Date: 5 p.m. ET 10/28/25.

Docket Numbers: ER26-56-000.

Applicants: Midcontinent Independent System Operator, Inc.

Description: § 205(d) Rate Filing: 2025-10-07_SA 4567 ATC-WPL GIA (S1034) to be effective 10/1/2025.

Filed Date: 10/7/25.

Accession Number: 20251007-5040.

Comment Date: 5 p.m. ET 10/28/25.

Docket Numbers: ER26-57-000.

Applicants: Halifax County Solar LLC.

Description: § 205(d) Rate Filing: Halifax County Solar LLC MBR Tariff to be effective 11/1/2025.

Filed Date: 10/7/25.

Accession Number: 20251007-5054.

Comment Date: 5 p.m. ET 10/28/25.

Docket Numbers: ER26-58-000.

Applicants: ISO New England Inc., Eversource Energy Service Company (as agent).

Description: § 205(d) Rate Filing: Eversource Energy Service Company (as agent) submits tariff filing per 35.13(a)(2)(iii: Eversource; Refund of Differences Between Actual and Fixed Amounts for PBOP to be effective 12/8/2025.

Filed Date: 10/7/25.

Accession Number: 20251007-5059.

Comment Date: 5 p.m. ET 10/28/25.

Docket Numbers: ER26-59-000.

Applicants: PJM Interconnection, L.L.C.

Description: § 205(d) Rate Filing: Reforms to Energy Uplift Credit Rules to be effective 12/8/2025.

Filed Date: 10/7/25.

Accession Number: 20251007-5061.

Comment Date: 5 p.m. ET 10/28/25.

Docket Numbers: ER26-60-000.

Applicants: Midcontinent Independent System Operator, Inc.

Description: § 205(d) Rate Filing: 2025-10-07_SA 4565 ITC Midwest-Interstate Power & Light GIA (S1070) to be effective 9/30/2025.

Filed Date: 10/7/25.

Accession Number: 20251007-5062.

Comment Date: 5 p.m. ET 10/28/25.

Docket Numbers: ER26-61-000.

Applicants: Tucson Electric Power Company.

Description: § 205(d) Rate Filing: Service Agreement Nos. 601 & 602 to be effective 9/29/2025.

Filed Date: 10/7/25.

Accession Number: 20251007-5079.

Comment Date: 5 p.m. ET 10/28/25.

Docket Numbers: ER26-62-000.

Applicants: FirstEnergy Pennsylvania Electric Company.

Description: FirstEnergy Pennsylvania Electric Company submits Notice of Cancellation of Service Agreement No. 4119.

Filed Date: 10/6/25.

Accession Number: 20251006-5234.

Comment Date: 5 p.m. ET 10/27/25.

Docket Numbers: ER26-63-000.

Applicants: Jersey Central Power & Light Company.

Description: Jersey Central Power & Light Company submits Notice of Cancellation of Service Agreement No. 2269.

Filed Date: 10/6/25.

Accession Number: 20251006-5235.

Comment Date: 5 p.m. ET 10/27/25.

Docket Numbers: ER26-65-000.

Applicants: Duke Energy Carolinas, LLC.

Description: § 205(d) Rate Filing: DEC-Lockhart Amended NITSA SA No. 407 to be effective 10/1/2025.

Filed Date: 10/7/25.

Accession Number: 20251007-5111.

Comment Date: 5 p.m. ET 10/28/25.

Docket Numbers: ER26-66-000.

Applicants: Coso Geothermal Power Holdings, LLC.

Description: § 205(d) Rate Filing: First Amendment to Shared Facilities Agreement to be effective 10/8/2025.

Filed Date: 10/7/25.

Accession Number: 20251007-5112.

Comment Date: 5 p.m. ET 10/28/25.

Docket Numbers: ER26-67-000.

Applicants: Mordor ES2 LLC.

Description: § 205(d) Rate Filing: First Amendment to Shared Facilities Agreement to be effective 10/8/2025.

Filed Date: 10/7/25.

Accession Number: 20251007-5115.

Comment Date: 5 p.m. ET 10/28/25.

Take notice that the Commission received the following electric securities filings:

Docket Numbers: ES26-10-000; ES26-11-000; ES26-12-000.

Applicants: Wheeling Power Company, Southwestern Electric Power Company, Kingsport Power Company.

Description: Application Under Section 204 of the Federal Power Act for Authorization to Issue Securities of Kingsport Power Company, et al.

Filed Date: 10/7/25.

Accession Number: 20251007-5069.

Comment Date: 5 p.m. ET 10/28/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov .

Dated: October 10, 2025.
Carlos D. Clay,
Deputy Secretary.

[FR Doc. 2025-20660 Filed 11-21-25; 8:45 am]

BILLING CODE 6717-01-P